DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Vessel Identification Requirements.

Form Number(s): None.

OMB Approval Number: 0648-0361.

Type of Request: Regular submission.

Burden Hours: 1,142.

Number of Respondents: 1,481.

Average Hours Per Response: 46 minutes.

Needs and Uses: The vessels in certain federally-regulated fisheries off the U.S. west coast and western Pacific region are required to display the vessel's official number in three locations. Purse seine tuna vessels in the South Pacific are required to display their international radio call sign in three locations and on any helicopter or skiff. The requirement is necessary to aid enforcement of fishery regulations.

Affected Public: Business or other for-profit organizations; Individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 21, 2005.
Gwellnar Banks,
Management Analyst, Office of the Chief Information Officer.

[FR Doc. 05-5937 Filed 3-24-05; 8:45 am]

BILLING CODE 3510-22-P